DEPARTMENT OF HEALTH AND HUMAN SERVICES

National Institutes of Health

National Cancer Institute; Amended Notice of Meeting

Notice is hereby given of a change in the meeting of the National Cancer Institutes Board of Scientific Advisors, March 5, 2001, 8 a.m. to March 6, 2001, 1 p.m. National Cancer Institute, 9000 Rockville Pike, Building 31, C Wing, 6th Floor, Conference Room 10, Bethesda, MD 20892 which was published in the Federal Register on February 2, 2001, 66 FR 8809.

The meeting has been changed to a one day meeting, to be held March 5, 2001 from 8 a.m. to 5 p.m. The meeting is partially closed to the public.

Dated: February 27, 2001.
LaVerne Y. Stringfield,
Director, Office of Federal Advisory Committee Policy.

[FR Doc. 01-6018 Filed 3-9-01; 8:45 am]

BILLING CODE 4140-01-M